ENVIRONMENTAL PROTECTION AGENCY

[ER-FRL-8997-4]

Environmental Impacts Statements; Notice of Availability

Responsible Agency: Office of Federal Activities, General Information (202) 564-1399 or http://www.epa.gov/compliance/nepa/.

Weekly receipt of Environmental Impact Statements

Filed 05/30/2011 Through 06/03/2011 Pursuant to 40 CFR 1506.9

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110176, Draft EIS, BLM, NV, Clark, Lincoln, and White Pine Counties Groundwater Development Project, Construction and Operation of Pipeline System and Associated Infrastructure, Right-of-Way Application, Clark, Lincoln, White Pine, NV, Comment Period Ends: 09/08/2011, Contact: Penny Woods 775-861-6466.

EIS No. 20110177, Draft EIS, NOAA, 00, Reef Fish Amendment 32, Gag—Rebuilding Plan, Annual Catch Limits, Management Measures, Red Grouper—Annual Catch Limits, Management Measures, Grouper Accountability Measures, Gulf of Mexico, Comment Period Ends: 07/25/2011, Contact: Roy E. Crabtree PhD 727-824-5301.

EIS No. 20110178, Draft EIS, NRC, FL, Generic—License Renewal of Nuclear Plants Regarding Crystal River Unit 3 Nuclear Generating Unit, Supplement 44, City of Crystal River, Citrus County, FL, Comment Period Ends: 07/25/2011, Contact: Daniel Doyle 301-415-3748.

EIS No. 20110179, Draft EIS, USFS, CO, Ski Resort Peak 6 Project, To Better Accommodate Existing Daily Visitation Levels, Dillon Ranger District, White River National Forest, Summit County, CO, Comment Period Ends: 07/25/2011, Contact: Jan Cutts 970-262-3451.

EIS No. 20110180, Draft Supplement, BLM, UT, Greater Natural Buttes Area Gas Development Project, New Information on National Ambient Air Quality Standards and New Monitoring Data, Proposes to Develop Oil and Gas Resources within the 162-911-Acre, Uintah County, UT, Comment Period Ends: 07/25/2011, Contact: Stephanie Howard 435-781-4469.

EIS No. 20110181, Final EIS, USACE, LA, New Orleans To Venice (NOV), Louisiana, Hurricane Risk Reduction Project, Incorporation of Non-Federal Levees from Oakville to St. Jude, Plaquemines Parish, LA, Review Period Ends: 07/11/2011, Contact: Christopher Koeppel 601-631-5410.

EIS No. 20110182, Final EIS, WAPA, CA, Rice Solar Energy Project, Proposed 150 megawatt Solar Energy Generating Facility, 161-kV/230-kV Electrical Transmission Tie-Line and 161-kV/230-kV Electrical Interconnection Switchyard, Riverside County, CA, Review Period Ends: 07/11/2011, Contact: Liana Reilly 720-962-7253.

Amended Notices

EIS No. 20110168, Draft Supplement, USFS, ID, Bussel 484 Project Area, Updated and New Information, Manage the Project Area to Achieve Desired Future Conditions for Vegetation, Fire, Fuels, Recreation, Access, Wildlife, Fisheries, Soil and Water, Idaho Panhandle National Forest, St. Joe Ranger District, Shoshone County, ID, Comment Period Ends: 07/18/2011, Contact: Lynette Myhre 208-245-2531.

Revision to FR Notice Published 06/03/2011: Correction to Contact Telephone Number.

Dated: June 7, 2011.
Cliff Rader,
Acting Director, NEPA Compliance Division, Office of Federal Activities.

[FR Doc. 2011-14437 Filed 6-9-11; 8:45 am]

BILLING CODE 6560-50-P